DEPARTMENT OF THE INTERIOR

Bureau of Indian Affairs

[245A2100DD/AAKC001030/A0A501010.999900]

Notice of Intent To Prepare an Environmental Impact Statement for the Nisqually Indian Tribe's Proposed Fee-To-Trust and Casino Project, City of Lacey, Thurston County, Washington

AGENCY: Bureau of Indian Affairs, Interior.

ACTION: Notice.

SUMMARY: This notice advises the public that the Bureau of Indian Affairs (BIA), as lead agency, intends to gather information necessary for preparing an Environmental Impact Statement (EIS) pursuant to the National Environmental Policy Act (NEPA) in connection with the Nisqually Indian Tribe (Tribe) proposed Fee-to-Trust and Casino Project in the City of Lacey, Thurston County, Washington for gaming and other purposes (Quiemuth Casino-Resort Property). This notice also opens public scoping to identify potential issues, concerns, and alternatives to be considered in the EIS.

DATES: To ensure consideration during the development of the EIS, written comments on the scope of the EIS should be sent as soon as possible and no later than 30 days after publication of this Notice of Intent (NOI) in the Federal Register. The time and date of the public scoping meeting will be announced at least 15 days in advance through a notice to be published in the local newspaper and online.

ADDRESSES: You may mail written comments to Bryan Mercier, Regional Director, Bureau of Indian Affairs, Northwest Region, 911 NE 11th Avenue, Portland, Oregon 97232. Please include your name, return address, and “NOI Comments, Nisqually Indian Tribe Fee-to-Trust and Casino Project” on the first page of your written comments. You may also submit comments through email to Tobiah Mogavero, NEPA Coordinator, Bureau of Indian Affairs, at: tobiah.mogavero@bia.gov, using “NOI Comments, Nisqually Indian Tribe Fee-to-Trust and Casino Project” as the subject of your email.

FOR FURTHER INFORMATION CONTACT: Mr. Tobiah Mogavero, NEPA Coordinator, Bureau of Indian Affairs, Northwest Region, (435) 210-0509, tobiah.mogavero@bia.gov.

SUPPLEMENTARY INFORMATION: The Nisqually Indian Tribe submitted a Fee-to-Trust application to the Bureau of Indian Affairs (BIA) requesting the placement of approximately 74.2 acres of fee land in trust by the United States upon which the Nisqually Indian Tribe would construct a casino resort. The Tribe proposes to develop a casino-resort with an event/multi-purpose center, cultural center/museum with Tribal lawn, and associated infrastructure. The proposed fee-to-trust property is located within the boundaries of the City of Lacey, Thurston County, Washington. The proposed trust property is comprised of tax parcels numbers 11810101100 and 11810101102. The purpose of the proposed action is to improve the economic status of the Tribal government so that it can provide comprehensive services and ensure the continued social and economic independence and well-being of its Tribal members.

The proposed action encompasses the various federal approvals that may be required to implement the Nisqually Tribe's proposed project, including approval of the Nisqually Tribe's Fee-to-Trust application and Secretarial Determination pursuant to section 20(b)(1)(A) of the Indian Gaming Regulatory Act (25 U.S.C. 2719(b)(1)(A)). The EIS will identify and evaluate issues related to these approvals and will also evaluate a range of reasonable alternatives. Possible alternatives currently under consideration include: (1) a reduced-intensity casino alternative, and (2) an alternate-use (non-gaming) alternative. The range of alternatives evaluated in the EIS may be expanded based on comments received during the scoping process.

Areas of environmental concern preliminarily identified for analysis in the EIS include land resources; water resources; air quality; noise; biological resources; cultural/historic/archaeological resources; resource use patterns; traffic and transportation; public health and safety; hazardous materials and hazardous wastes; public services and utilities; socioeconomics; environmental justice; visual resources/aesthetics; and cumulative, indirect, and growth-inducing effects. The range of issues to be addressed in the EIS may be expanded or reduced based on comments received in response to this notice and at the public scoping meeting. Additional information, including a map of the proposed trust property, is available by contacting the person listed in the FOR FURTHER INFORMATION CONTACT section of this notice.

Public Comment Availability

Comments, including names and addresses of respondents, will be included as part of the administrative record and Scoping Report for the EIS. Before including your address, telephone number, email address, or other personal identifying information in your comment, you should be aware that your entire comment—including your personal identifying information—may be made publicly available at any time. While you can ask in your comment that your personal identifying information be withheld from public review, the BIA cannot guarantee that this will occur.

Authority

This notice is published pursuant to section 1503.1 of the Council of Environmental Quality Regulations (40 CFR part 1500 through 1508) and section 46.305 of the Department of the Interior Regulations (43 CFR part 46), implementing the procedural requirements of the NEPA of 1969, as amended (42 U.S.C. 4371, et seq.), and is in the exercise of authority delegated to the Assistant Secretary—Indian Affairs by 209 DM 8. This notice is also published in accordance with 40 CFR 93.155, which provides reporting requirements for conformity determinations.

Bryan Newland,
Assistant Secretary—Indian Affairs.

[FR Doc. 2024-14816 Filed 7-5-24; 8:45 am]

BILLING CODE 4337-15-P